DEPARTMENT OF TRANSPORTATION

National Highway Traffic Safety Administration

[Docket No. NHTSA-2021-0046; Notice 1]

Goodyear Tire & Rubber Company, Receipt of Petition for Decision of Inconsequential Noncompliance

AGENCY: National Highway Traffic Safety Administration (NHTSA), Department of Transportation (DOT).

ACTION: Receipt of petition.

SUMMARY: Goodyear Tire & Rubber Company (Goodyear), has determined that certain Goodyear Convenience Spare tires do not fully comply with Federal Motor Vehicle Safety Standard (FMVSS) No. 109, New Pneumatic and Certain Specialty Tires. Goodyear filed an original noncompliance report dated June 8, 2021, and subsequently, Goodyear petitioned NHTSA on June 21, 2021, for a decision that the subject noncompliance is inconsequential as it relates to motor vehicle safety. This notice announces receipt of Goodyear's petition.

DATES: Send comments on or before January 13, 2022.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-8).

FOR FURTHER INFORMATION CONTACT: Jayton Lindley, General Engineer, NHTSA, Office of Vehicle Safety Compliance, (325) 655-0547.

SUPPLEMENTARY INFORMATION:

I. Overview

Goodyear has determined that certain Goodyear Convenience Spare tires do not fully comply with the requirements of paragraph S4.2.1(c) and S4.3(c) of FMVSS No. 109, New Pneumatic and Certain Specialty Tires (49 CFR 571.109). Goodyear filed a noncompliance report dated June 8, 2021, pursuant to 49 CFR part 573, Defect and Noncompliance Responsibility and Reports. Goodyear subsequently petitioned NHTSA on June 21, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Goodyear's petition is published under 49 U.S.C. 30118 and 30120 and does not represent any Agency decision or other exercise of judgment concerning the merits of the petition.

II. Tires Involved

Approximately 534 Goodyear Convenience Spare tires, size T155/70D17 110M SL, manufactured between February 15, 2021, and April 8, 2021, are potentially involved.

III. Noncompliance

Goodyear explains that the noncompliance is that the subject tires incorrectly state the maximum load in kg on one side of the tire and, therefore, do not comply with the requirements specified in paragraphs S4.2.1(c) and S4.3(c) of FMVSS No. 109. Specifically, the subject tires are marked on one sidewall with a Maximum Load of 1080 kg, when they should have been marked with a Maximum Load of 1060 kg.

IV. Rule Requirements

Paragraphs S4.2.1(c) and S4.3(c) of FMVSS No. 109 include the requirements relevant to this petition. Each tire shall conform to each of the following: Its load rating shall be that specified in a submission made by an individual manufacturer, pursuant to paragraph S4.2.1(a), or in one of the publications described in paragraph S4.4.1(b) for its size designation, type, and each appropriate inflation pressure. If the maximum load rating for a particular tire size is shown in more than one of the publications described in paragraph S4.4.1(b), each tire of that size designation shall have a maximum load rating that is not less than the published maximum load rating, or if there are differing maximum load ratings for the same tire size designation, not less than the lowest published maximum load rating. Except as provided in paragraphs S4.3.1 and S4.3.2 of this standard, each tire, except for those certified to comply with paragraph S5.5 of § 571.139, shall have permanently molded into or onto both sidewalls, in letters and numerals not less than 0.078 inches high, the information shown in paragraphs S4.3 (a) through (g) of this standard. (c) Maximum load rating.

V. Summary of Goodyear's Petition

The following views and arguments presented in this section, “V. Summary of Goodyear's Petition,” are the views and arguments provided by Goodyear. They have not been evaluated by the Agency and do not reflect the views of the Agency. Goodyear describes the subject noncompliance and contends that the noncompliance is inconsequential as it relates to motor vehicle safety.

In support of its petition, Goodyear submitted the following reasoning:

1. The subject tires were manufactured as designed and meet or exceed all applicable FMVSSs.

2. Goodyear states the subject tires are original equipment on several Toyota and Subaru vehicle models and were designed and manufactured to meet or exceed the specified vehicle loading conditions as specified by the vehicle manufacturers.

3. According to Goodyear, the 110 numerical Load Index marked on the tire as part of the Service Description (110M) is correct as marked.

4. Goodyear claims the subject tires that were mismarked Max Load 1080 kg in place of Max Load 1060 kg met the performance requirements of FMVSS No. 109 for endurance and high speed when tested at the 1080 kg load.

5. The subject tires are marked correctly for Max Load in pounds on both sides of the tire. Further, Goodyear says the subject tires are primarily sold in the domestic original equipment market, where the load in pounds would be the predominant consumer unit of measurement.

6. The subject tires are marked in letters 20-mm high “TEMPORARY USE ONLY” as they are convenience spare tires.

7. Goodyear contends that NHTSA has previously granted petitions for similar noncompliances related to tire loading labeling information on tires and previous NHTSA surveys have shown most consumers do not base tire purchases on tire labeling information found on the tire sidewall. Since the subject tires are temporary use only spare tires, any considerations about what information consumers rely on for tire purchases is even less of a concern.

Goodyear concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Goodyear no longer controlled at the time it determined that the noncompliance existed. However, any decision on this petition does not relieve equipment distributors and dealers of the prohibitions on the sale, offer for sale, or introduction or delivery for introduction into interstate commerce of the noncompliant tires under their control after Goodyear notified them that the subject noncompliance existed.

(Authority: 49 U.S.C. 30118, 30120: delegations of authority at 49 CFR 1.95 and 501.8)

Otto G. Matheke III,
Director, Office of Vehicle Safety Compliance.

[FR Doc. 2021-26981 Filed 12-13-21; 8:45 am]

BILLING CODE 4910-59-P